COURT SERVICES AND OFFENDER SUPERVISION AGENCY FOR THE DISTRICT OF COLUMBIA

Senior Executive Service; Performance Review Board; Members

AGENCY: Court Services and Offender Supervision Agency for the District of Columbia.

ACTION: Notice.

SUMMARY: Section 4314(c) of Title 5, U.S.C. (as amended by the Civil Service Reform Act of 1978) requires each agency to establish, in accordance with regulations prescribed by the Office of Personnel Management, one or more Performance Review Boards (PRB) to review, evaluate and make a final recommendation on performance appraisals assigned to individual members of the agency's Senior Executive Service. The PRB established for the Court Services and Offender Supervision Agency (CSOSA), including the District of Columbia Pretrial Services Agency, an independent entity within CSOSA, also makes recommendations to the agency head regarding SES performance awards, rank awards and bonuses. Section 4314(c)(4) requires that notice of appointment of Performance Review Board members be published in the Federal Register.

The following persons have been appointed to serve as members of the Performance Review Board for the Court Services and Offender Supervision Agency: Adrienne Poteat, Thomas Williams, Jasper Ormond, Cedric Hendricks, James Williams, Linda Mays, Arthur Elkins, William Kirkendale, Susan Shaffer, Clifford Keenan, and Kim Whatley from October 1, 2008, to September 30, 2010.

FOR FURTHER INFORMATION CONTACT: Tonya Turner, Deputy Associate Director for Human Resources, Court Services and Offender Supervision Agency, 655 15th Street, NW., Suite 800, Washington, DC 20005, (202) 220-5477.

Dated: October 14, 2008.
Adrienne Poteat,
Acting Director.

[FR Doc. E8-24927 Filed 10-17-08; 8:45 am]

BILLING CODE 3129-01-P